DEPARTMENT OF ENERGY

[Docket No. RP00-336-018]El Paso Natural Gas Company; Notice of Compliance Filing

Federal Energy Regulatory Commission

September 10, 2003.

Take notice that on August 29, 2003, El Paso Natural Gas Company (El Paso) tendered for filing as part of its FERC Gas Tariff, Second Revised Volume No. 1-A, Twentieth Revised Sheet No. 1 and Original Sheet No. 2, with an effective date of October 1, 2003.

El Paso states that the transportation service agreements (TSAs) listed on the tariff sheets reflect the conversion of its former full requirements shippers to contract demand shippers in accordance with Commission Orders issued in the capacity allocation proceeding in this docket. El Paso states that the TSAs are being submitted for Commission review and information and have been listed on the tendered tariff sheet as potentially non-conforming agreements.

Any person desiring to protest said filing should file a protest with the Federal Energy Regulatory Commission, 888 First Street, NE., Washington, DC 20426, in accordance with § 385.211 of the Commission's Rules and Regulations. All such protests must be filed on or before the date as indicated below. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 15, 2003.

Linda Mitry,
Acting Secretary.

[FR Doc. 03-23610 Filed 9-15-03; 8:45 am]

BILLING CODE 6717-01-P